DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from October 13, to October 16, 2009.

For further information, please contact Edson Beall via: United States Postal Service mail, at the National Register of Historic Places, 2280, National Park Service, 1849 C St. NW., Washington, DC 20240; in person (by appointment), 1201 Eye St. NW., 8th floor, Washington DC 20005; by fax, 202-371-2229; by phone, 202-354-2255; or by e-mail, Edson_Beall@nps.gov.

Dated: December 24, 2009.
Rustin Quaide,
Acting Chief, National Register of Historic Places/National Historic Landmarks Program.

KEY: State, County, Property Name, Address/Boundary, City, Vicinity, Reference Number, Action, Date, Multiple Name.

CALIFORNIA

Orange County

Stroschein, Carl, House, 31682 EL Camino Real, San Juan Capistrano, 09000823, LISTED, 10/14/09.

CONNECTICUT

Litchfield County

Lime Rock Park Race Track, 497 Lime Rock Rd., Salisbury, 08001380, LISTED, 10/16/09.

GEORGIA

Fulton County

Hapeville Historic District, 1-75 E., Mt. Zion Rd. N., I-85 W., and Airport Loop Rd. S., Sylvan and Springdale Rds. W. of I-85, Hapeville, 09000824, LISTED, 10/14/09.

IOWA

Cerro Gordo County

East Park Band Shell, E. State St. between North Carolina and Kentucky, Mason City, 09000825, LISTED, 10/14/09.

IOWA

Davis County

“Lockkeeper's” House, Whitefish Trail, Eldon vicinity, 09000826, LISTED, 10/14/09.

MASSACHUSETTS

Worcester County

West Village Historic District, Allen Hill, Goodnow, Hubbardston, and Radford Rds., Princeton, 09000827, LISTED, 10/16/09.

MINNESOTA

ST. Louis County

ROBERT WALLACE (bulk carrier) shipwreck site, Address Restricted, Palmers vicinity, 09000828, LISTED, 10/14/09 (Minnesota's Lake Superior Shipwrecks MPS).

MISSOURI

Cape Girardeau County

South Middle Street Historic District, 513 William St., 202-230 S. Middle St., and 203-229 S. Middle, Cape Girardeau, 09000829, LISTED, 10/14/09.

NEW YORK

Bronx County

Tremont Baptist Church, 324 E. Tremont Ave., Bronx, 09000831, LISTED, 10/16/09.

NEW YORK

Queens County

Astoria Center of Israel, 27-35 Crescent St., Astoria, 09000833, LISTED, 10/16/09.

Free Synagogue of Flushing, 41-60 Kissena Blvd., Flushing, 09000834, LISTED, 10/16/09.

Wayne County

Alasa Farms, 6450 Shaker Rd., Alton vicinity, 09000835, LISTED, 10/16/09

Palmyra Village Historic District, Portions of Canandaigue, Church, Cuyler, E. and W. Jackson, Market, E. and W. Main Sts., Palmyra, 09000836, LISTED, 10/16/09.

Westchester County

New Rochelle Railroad Station, Between N. Ave. and Memorial Hwy., New Rochelle, 09000837, LISTED, 10/14/09.

Wyoming County

Fleming, Bryant, House, 1024 Tower Rd., Wyoming vicinity, 09000838, LISTED, 10/14/09.

TEXAS

Collin County

Celina Public School, 205 S. Colorado St., Celina, 09000839, LISTED, 10/14/09.

MATAGORDA COUNTY

Hill, R.J., Building, 401 Commerce St., Palacios, 09000840, LISTED, 10/14/09.

Price-Farwell House, 308 S. Bay Blvd., Palacios, 09000841, LISTED, 10/14/09.

[FR Doc. E9-30964 Filed 12-29-09; 8:45 am]

BILLING CODE P